DEPARTMENT OF ENERGY

Federal Energy Regulatory Commission

Notice Of Revised Procedural Schedule

| Project Nos.
Clean River Power MR-3, LLC | P-13404-002
Clean River Power MR-1, LLC | P-13405-002
Clean River Power MR-5, LLC | P-13406-002
Clean River Power MR-2, LLC | P-13407-002
Clean River Power MR-7, LLC | P-13408-002
Clean River Power MR-6, LLC | P-13411-002

On October 31, 2012, Clean River Power MR-3, LLC, Clean River Power MR-1, LLC, Clean River Power MR-5, LLC, Clean River Power MR-2, LLC, Clean River Power MR-7, LLC, and Clean River Power MR-6, LLC, filed applications for original licenses to construct, operate, and maintain the 3-megawatt (MW) Beverly Lock and Dam Water Power Project No. 13404, 4-MW Devola Lock and Dam Water Power Project No. 13405, 4-MW Malta/McConnelsville Lock and Dam Water Power Project No. 13406, 5-MW Lowell Lock and Dam Water Power Project No. 13407, 3-MW Philo Lock and Dam Water Power Project No. 13408, and 4-MW Rokeby Lock and Dam Water Power Project No. 13411 (Muskingum River Projects), respectively. On January 14, 2014, the Commission issued a Notice of Application Ready for Environmental Analysis, and Soliciting Comments, Recommendations, Preliminary Terms and Conditions, and Preliminary Fishway Prescriptions (REA Notice) for the Muskingum River Projects. The REA Notice included a procedural schedule.

The above applications will be processed according to the following revised procedural schedule.

Milestone | Target date
Issue EA | August 2015.
Comments on EA due | September 2015.

Any questions regarding this notice may be directed to Aaron Liberty at (202) 502-6862, or by email at aaron.liberty@ferc.gov.

Dated: July 29, 2015.
Kimberly D. Bose,
Secretary.

[FR Doc. 2015-19059 Filed 8-3-15; 8:45 am]

BILLING CODE 6717-01-P